DEPARTMENT OF ENERGY

Federal Energy Regulatory Commission

[Project No. 5730-019]

River Bounty, Inc.; Renew Hydro, LLC; Notice of Transfer of Exemption

1. By letters filed April 19, April 20, and May 4, 2011, River Bounty, Inc. informed the Commission that its exemption from licensing for the Oakland Hydroelectric Project No. 5730, originally issued June 9, 1982,¹ has been transferred to Renew Hydro, LLC. The project is located on the Susquehanna River in Susquehanna County, Pennsylvania. The transfer of an exemption does not require Commission approval.

¹ American Hydro Power Co., 19 FERC ¶ 62,426 (1982).

2. Renew Hydro, LLC, located at 1800 Route 34, Suite 101, Wall, New Jersey, is now the exemptee of the Oakland Hydroelectric Project No. 5730.

Dated: July 11, 2011.
Kimberly D. Bose,
Secretary.

[FR Doc. 2011-17991 Filed 7-15-11; 8:45 am]

BILLING CODE 6717-01-P